DEPARTMENT OF AGRICULTURE

Animal and Plant Health Inspection Service

[Docket No. 02-060-2]

Availability of an Environmental Assessment and Finding of No Significant Impact

AGENCY: Animal and Plant Health Inspection Service, USDA.

ACTION: Notice.

SUMMARY: We are advising the public that an environmental assessment and finding of no significant impact have been prepared by the Animal and Plant Health Inspection Service relative to the control of rush skeletonweed (Chondrilla juncea). The environmental assessment considers the effects of, and alternatives to, the release of a nonindigenous organism, Chondrilla root moth (Bradyrrhoa gilveolella), into the environment for use as a biological control agent to reduce the severity of rush skeletonweed infestations. Based on its finding of no significant impact, the Animal and Plant Health Inspection Service has determined that an environmental impact statement need not be prepared.

ADDRESSES: Copies of the environmental assessment and finding of no significant impact are available for public inspection in our reading room. The reading room is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: Dr. Robert V. Flanders, Branch Chief, Pest Permit Evaluation, PPQ, APHIS, 4700 River Road Unit 133, Riverdale, MD 20737-1228; (301) 734-5930.

SUPPLEMENTARY INFORMATION:

Background

The Animal and Plant Health Inspection Service (APHIS) is considering an application from the University of Montana for a permit to release a nonindigenous organism, Chondrilla root moth (Bradyrrhoa gilveolella), to reduce the severity of rush skeletonweed (Chondrilla juncea) in the continental United States.

Native to Eurasia, rush skeletonweed has become established in the District of Columbia and several States including California, Delaware, Georgia, Idaho, Indiana, Maryland, Michigan, Montana, New Jersey, New York, Oregon, Pennsylvania, Virginia, Washington, and West Virginia. This invasive weed infests roadsides, railways, rangelands, pastures, grain fields, coastal sand dunes, and shaley hillsides in mountainous regions. Rush skeletonweed causes losses in infested grain fields, reduces rangeland forage production, and reduces plant and animal diversity.

On July 25, 2002, we published in the Federal Register (67 FR 48610-48611, Docket No. 02-060-1) a notice in which we announced the availability, for public review and comment, of an environmental assessment (EA) that examined the potential effects of the release of the Chondrilla root moth into the environment for use as a biological control agent to reduce the severity of rush skeletonweed infestations. Chondrilla root moth larvae feed on the roots of rush skeletonweed, causing the plant to die or increasing its susceptibility to pathogenic fungi.

We solicited comments on the EA for 30 days ending on August 26, 2002. We received one comment by that date. The commenter supported the proposed action.

In this document, we are advising the public of APHIS' record of decision and finding of no significant impact (FONSI) regarding the proposed field release of the Chondrilla root moth into the environment for use as a biological control agent to reduce the severity of rush skeletonweed infestations. The decision, which is based on the analysis found in the EA, reflects our determination that release of the organism will not have a significant impact on the quality of the human environment.

The environmental assessment and finding of no significant impact may be viewed on the Internet at http://www.aphis.usda.gov/ppq by following the link for “Documents/Forms Retrieval System” then clicking on the triangle beside “6—Permits—Environmental Assessments,” and selecting document number 0037. You may request paper copies of the environmental assessment and finding of no significant impact by calling or writing to the person listed under FOR FURTHER INFORMATION CONTACT. Please refer to the title of the environmental assessment when requesting copies. The environmental assessment and finding of no significant impact are also available for review in our reading room (information on the location and hours of the reading room is listed under the heading ADDRESSES at the beginning of this notice).

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC this 6th day of December 2002.
Peter Fernandez,
Acting Administrator, Animal and Plant Health Inspection Service.

[FR Doc. 02-31308 Filed 12-11-02; 8:45 am]

BILLING CODE 3410-34-P